DEPARTMENT OF HOMELAND SECURITY

Federal Emergency Management Agency

44 CFR Part 67

[Docket ID FEMA-2013-0002; Internal Agency Docket No. FEMA-B-1233]

Proposed Flood Elevation Determinations

AGENCY: Federal Emergency Management Agency, DHS.

ACTION: Proposed rule; correction.

SUMMARY: On November 29, 2011 and November 9, 2012, FEMA published in the Federal Register a proposed rule and a correction to the proposed rule that contained erroneous tables. This notice provides corrections to those tables, to be used in lieu of the information published at 76 FR 73537 and 76 FR 67325. The table provided here represents the flooding sources, location of referenced elevations, effective and modified elevations, and communities affected for Sullivan County, Pennsylvania (All Jurisdictions). Specifically, it addresses the flooding sources Big Run, Little Loyalsock Creek, Loyalsock Creek, and Muncy Creek.

DATES: Comments are to be submitted on or before May 6, 2013.

ADDRESSES: You may submit comments, identified by Docket No. FEMA-B-1233, to Luis Rodriguez, Chief, Engineering Management Branch, Federal Insurance and Mitigation Administration, Federal Emergency Management Agency, 500 C Street SW., Washington, DC 20472, (202) 646-4064 or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and are also used to calculate the appropriate flood insurance premium rates for new buildings built after these elevations are made final, and for the contents in these buildings.

Correction

In the proposed rule published at 76 FR 73537, in the November 29, 2011, issue of the Federal Register, and in the proposed correction rule published at 76 FR 67325, in the November 9, 2012, issue of the Federal Register, FEMA published a table under the authority of 44 CFR 67.4. The table, entitled “Sullivan County, Pennsylvania (All Jurisdictions)” addressed the flooding sources Big Run, Little Loyalsock Creek, Loyalsock Creek, and Muncy Creek. Those tables contained inaccurate information as to the location of referenced elevation, effective and modified elevation in feet, or communities affected for these flooding sources. In this notice, FEMA is publishing a table containing the accurate information, to address these prior errors. The information provided below should be used in lieu of that previously published.

Flooding Source(s) | Location of Referenced Elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Sullivan County, Pennsylvania (All Jurisdictions)
Big Run | At the Muncy Creek confluence | +968 | +965 | Township of Davidson.
| Approximately 1,660 feet upstream of Fairman Road | None | +1153
Little Loyalsock Creek | Approximately 1,150 feet downstream of the Marsh Run confluence | None | +1432 | Borough of Dushore.
| Approximately 540 feet upstream of Main Street | None | +1458
Loyalsock Creek | Approximately 2.6 miles downstream of the Ogdonia Creek confluence | +789 | +780 | Borough of Forksville, Township of Elkland, Township of Forks, Township of Hillsgrove.
| At the Little Loyalsock Creek confluence | None | +1004
Muncy Creek | At the Muncy Creek Tributary 1 confluence | +787 | +783 | Township of Davidson, Township of Shrewsbury.
| Approximately 0.76 mile upstream of Pecks Road | +991 | +988
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
Borough of Dushore
Maps are available for inspection at the Municipal Building, 216 Julia Street, Dushore, PA 18614.
Borough of Forksville
Maps are available for inspection at Sullivan County Planning and Community Development, 245 Muncy Street, Suite 110, Laporte, PA 18626.
Township of Davidson
Maps are available for inspection at the Davidson Township Municipal Building, 20 Michelle Road, Muncy Valley, PA 17758.
Township of Elkland
Maps are available for inspection at the Elkland Township Municipal Office Building, 909 Kobbe Road, Forksville, PA 18616.
Township of Forks
Maps are available for inspection at the Forks Township Hall, 627 Molyneux Hill Road, Dushore, PA 18614.
Township of Hillsgrove
Maps are available for inspection at the Township Hall, 2232 Route 87, Hillsgrove, PA 18619.
Township of Shrewsbury
Maps are available for inspection at the Shrewsbury Township Building, 1793 Edkin Hill Road, Muncy Valley, PA 17758.

James A. Walke,
Acting Deputy Associate Administrator for Mitigation, Department of Homeland Security, Federal Emergency Management Agency.

[FR Doc. 2013-02461 Filed 2-4-13; 8:45 am]

BILLING CODE 9110-12-P